DEPARTMENT OF VETERANS AFFAIRS

Advisory Committee on Women Veterans, Notice of Meeting

The Department of Veterans Affairs (VA) gives notice under Public Law 92-463 (Federal Advisory Committee Act) that the Advisory Committee on Women Veterans will conduct site visits to the James A. Haley Veterans Hospital, 13000 Bruce B. Downs Boulevard, Tampa, FL 33612, and several other VA facilities in the area. The site visits will be held on September 23-27, 2002, from 8 a.m. until 4 p.m. each day.

The purpose of the Committee is to advise the Secretary of Veterans Affairs regarding the needs of women veterans with respect to healthcare, rehabilitation, compensation, outreach, and other programs and activities administered by the VA designed to meet such needs. The Committee will make recommendations to the Secretary regarding such activities.

The five day series of visits will feature the following presentations, briefings and tours.

Monday, 9/23

• Richard Silver, Director, James A. Haley Veterans Hospital, Welcoming Remarks, Introduction of Key Leadership Group

• Elwood Headley, MD, Director, Veterans Integrated Service Network (VISN) 8, Welcoming Remarks and Overview of VISN 8

• Toni Lawrie, RN, MPA, VISN 8 Lead Women Veterans Program Manager, Review of VISN 8 Women Veterans Workgroup Activities, Presentations by Women Veterans Program Managers (WVPM), VISN 8, Donald Freyburger, Chief Prosthetics, VISN 8, Overview of the Prosthetics Program, Medical Center Tour (Conducted in two groups)

Tuesday, 9/24

• Drs. Washko and McGinn, Mss. Sorrick, Keyes and Mikelonis, Primary Care Providers in Women's Clinic

• Robert McCammon, MD, Chief, Gynecology, Ann Schrecengost, ARNP, Overview of the Gynecological Services at Tampa: Opportunities for Improvement and Future Needs

• Inez Joseph, Ph.D., ARNP, and Staff, Nursing Home Care Unit (NHCU)/Geriatric Clinic

• Steven Scott, MD, Chief Rehab Medicine, Laureen Dolorsco ACOS, Rehabilitation and Mental Health, Brenda Kelley, R.N., and others (To Be Announced), Introduction and Tour: New Spinal Cord Injury Unit (SCI)

• Drs. Catalano, Poreda, and Jenkins, Women's Center Mental Health Program

• Patricia Ordorica, MD, Chief Mental Health & Behavioral Science, Arthur Rosenblatt, Ph.D., MST Coordinator, Glenn Smith, Ph.D., and Martha Brown, MD, Overview of the Mental Health Programs—Strengths and Weaknesses, Alcohol and Substance Abuse, Sexual Trauma, Post Traumatic Stress Disorder

• Patricia Ordorica, Arthur Rosenblatt, Wendy Hellickson, Carol Griffiths, Overview of the Homeless Program and Home Grant Per Diem Program

Wednesday, 9/25

St. Petersburg VA Medical Center Bay Pines, Marr Conference Room, 10000 Bay Pines Blvd., Bay Pines, FL 33744

• Tour of the 4B Women's Clinic

• Introductions and discussion with Key Leadership/Management, Susan Angell Silva, Associate Director, Pramod K. Mohanty, MD, Chief of Staff, Joy Easterly, ACOS/Nursing and Patient Care Services, Dominique Thuriere, MD, ACOS for Mental Health, Larry Atkinson, ACOS for Primary Care, Carol O'Brien, Ph.D., Director, Sexual Trauma Services

• Irene Trowell-Harris, Director, Center for Women Veterans, Overview of the Center for Women Veterans and the Women Veterans Health Program Mission and Goals

• Maria Crane Psy.D., Team Leader, Katherine McKay, Ph.D., MST Counselor, Overview of the St. Petersburg Veterans Center

• Drs. O'Brien, Garrison, Connelly and Mss. Chaffin, LCSW, Desmarais, RN, Parker, RT, Harter-McBride, Program Assistant, Overview of Sexual Trauma Treatment Program

• Mr. Billy Murphy, Director Florida National Cemeteries, Ms. Gloria Crandell, Tour Bay Pines National Cemetery, 10,000 Bay Pines Blvd., Bay Pines, FL 33744

• William D. Stinger, Director, VA Regional Office, Lori Cowen, WVC, St. Petersburg VA Regional Office, 9500 Bay Pines Blvd., Bay Pines, FL 33744

• Larry Ashlock, Director, Readjustment Counseling, Region 3A

Thursday, 9/26

South St. Petersburg Community-based Outpatient Clinic, 3420 8th Avenue S., St. Petersburg, FL 33711

• Gloria Cafeo, Community-based Outpatient Clinic

• Pat Neal and Staff, Tour St. Petersburg Veterans Center

• Dawn Johnson, Manager, Tour Fisher House

• Drs. Keller, Narasimaiah, Stolar, Shriner, Hemadeh, Mss. Hill, ARNP, Headley, RN, Huggins, LCSW, Armatrage, R.Ph., Integration of Physical and Behavioral Care Services for Women, 4A Conference Room

• Laverne Feaster, MSW Domiciliary Chief, and Staff, Tour Domiciliary; Discussion on the Homeless Program, Substance Abuse Treatment Program, Stress Treatment Program, and Sexual Trauma

• Dr. Dominique Thuriere, Tour Inpatient Psychiatry

Friday, 9/27

James A. Haley VA Medical Center

• Open Forum with Women Veterans Community in the James A. Haley Veterans Hospital Auditorium

• Exit Interview with Key Leadership, Individuals from Tampa and Bay Pines VA Medical Centers

All sessions will be open to the public. Those who plan to attend should contact Ms. Maryanne Carson at the Department of Veterans Affairs, Center for Women Veterans, 810 Vermont Avenue, NW., Washington, DC 20420, at (202) 273-6193.

Dated: September 5, 2002.
By Direction of the Secretary.
Nora E. Egan,
Committee Management Officer.

[FR Doc. 02-23196 Filed 9-11-02; 8:45 am]

BILLING CODE 8320-01-M